FEDERAL RETIREMENT THRIFT INVESTMENT BOARD

Sunshine Act; Notice of Joint Meeting FRTIB and ETAC

TIME AND DATE: 8:30 a.m. (Eastern Time) May 19, 2014.

PLACE: 10th Floor Board Meeting Room, 77 K Street NE., Washington, DC 20002.

STATUS: Open to the public.

MATTERS TO BE CONSIDERED:

Open to the Public

1. Approval of the minutes of the April 28, 2014 Board Member Meeting

2. Approval of the Minutes of the November 18, 2013 ETAC Meeting

3. Monthly Reports

a. Monthly Participant Activity Report

b. Monthly Investment Policy Review

c. Legislative Report

4. Office of Enterprise Planning Report

a. Participant Survey Summary

b. Mutual Fund Window Report

c. Quarterly Metrics Report

5. Office of Communications Report

CONTACT PERSON FOR MORE INFORMATION: Kimberly Weaver, Director, Office of External Affairs, (202) 942-1640.

Dated: May 8, 2014.
James Petrick,
General Counsel, Federal Retirement Thrift Investment Board.

[FR Doc. 2014-10994 Filed 5-9-14; 4:15 pm]

BILLING CODE 6760-01-P